ENVIRONMENTAL PROTECTION AGENCY

[FRL-9368-01-OMS]

Privacy Act of 1974; System of Records

AGENCY: Office of Mission Support (OMS), Environmental Protection Agency (EPA).

ACTION: Notice of a modified system of records.

SUMMARY: The U.S. Environmental Protection Agency's (EPA) Office of Acquisition Solutions is giving notice that it proposes to modify a system of records pursuant to the provisions of the Privacy Act of 1974. EPA's Acquisition System (EAS) is an automated contract writing and management system with configurable workflow used to initiate, award, modify, and track acquisition actions for the procurement of goods and services. The system of records notice for EPA Acquisition System (EAS) is being modified to reflect that the system is now hosted and data stored in Unison's Amazon Web Services (AWS) cloud hosting environment, which is Federal Risk and Authorization Management Program (FedRAMP) authorized.

DATES: Persons wishing to comment on this system of records notice must do so by March 18, 2022.

ADDRESSES: Submit your comments, identified by Docket ID No. EPA-HQ-OMS-2020-0210, by one of the following methods:

Federal eRulemaking Portal: https://www.regulations.gov Follow the online instructions for submitting comments.

Email: docket_oms@epa.gov. Include the Docket ID number in the subject line of the message.

Fax: 202-566-1752.

Mail: OMS Docket, Environmental Protection Agency, Mail Code: 2822T, 1200 Pennsylvania Ave. NW, Washington, DC 20460.

Hand Delivery: OMS Docket, EPA/DC, WJC West Building, Room 3334, 1301 Constitution Ave. NW, Washington, DC 20460. Such deliveries are only accepted during the Docket's normal hours of operation, and special arrangements should be made for deliveries of boxed information.

Instructions: Direct your comments to Docket ID No. EPA-HQ-OMS-2020-0210. The EPA policy is that all comments received will be included in the public docket without change and may be made available online at https://www.regulations.gov, including any personal information provided, unless the comment includes information claimed to be Controlled Unclassified Information (CUI) or other information for which disclosure is restricted by statute. Do not submit information that you consider to be CUI or otherwise protected through https://www.regulations.gov. The https://www.regulations.gov website is an “anonymous access” system for EPA, which means the EPA will not know your identity or contact information unless you provide it in the body of your comment. Each agency determines submission requirements within their own internal processes and standards. EPA has no requirement to include personal information. If you send an email comment directly to the EPA without going through https://www.regulations.gov your email address will be automatically captured and included as part of the comment that is placed in the public docket and made available on the internet. If you submit an electronic comment, the EPA recommends that you include your name and other contact information in the body of your comment. If the EPA cannot read your comment due to technical difficulties and cannot contact you for clarification, the EPA may not be able to consider your comment. Electronic files should avoid the use of special characters, any form of encryption, and be free of any defects or viruses. For additional information about the EPA public docket, visit the EPA Docket Center homepage at https://www.epa.gov/dockets.

Docket: All documents in the docket are listed in the https://www.regulations.gov index. Although listed in the index, some information is not publicly available, e.g., CUI or other information for which disclosure is restricted by statute. Certain other material, such as copyrighted material, will be publicly available only in hard copy. Publicly available docket materials are available either electronically in https://www.regulations.gov or in hard copy at the OMS Docket, EPA/DC, WJC West Building, Room 3334, 1301 Constitution Ave. NW, Washington, DC 20460.

Temporary Hours During COVID-19

Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov or email, as there may be a delay in processing mailand faxes. Hand deliveries and couriers may be received by scheduled appointment only. For further information on EPA Docket Center services and the current status, please visit us online at https://www.epa.gov/dockets. The telephone number for the Public Reading Room is (202) 566-1744, and the telephone number for the OMS Docket is (202) 566-1752.

FOR FURTHER INFORMATION CONTACT: Please submit questions to Victor Rodriguez, rodriguez.victor@epa.gov, 202-564-2212 or Richard Belles, belles.richard@epa.gov, 202-564-4339.

SUPPLEMENTARY INFORMATION: EAS is built using a commercial off-the-shelf product called PRISM from Unison that includes a purchase request form and workflow. EAS is hosted, and its data stored, in Unison's AWS cloud hosting environment, which is FedRAMP authorized. EPA is moving applications like EAS to the cloud for scalability and improved security. EAS collects and stores personally identifiable information (PII) of EPA employees who initiate acquisition actions or are assigned to work on these actions. This information may include: Employee first name, last name, work email, work telephone number, and Local Area Network User Identification. This information is collected and used for internal EPA communication purposes and approval routing of the acquisition action. Privacy information is protected by limiting EAS access to authenticated users. Authentication is controlled using the agency's central authentication security controls.

SYSTEM NAME AND NUMBER:

EPA Acquisition System (EAS), EPA-86.

SECURITY CLASSIFICATION:

Unclassified.

SYSTEM LOCATION:

Office of Acquisition Solutions, Environmental Protection Agency, Ronald Reagan Building, 1200 Pennsylvania Avenue NW, Washington, DC 20460. EAS is hosted as a Software as a Service (SaaS) by Unison's Amazon Web Services (AWS) Cloud hosting environment which is FedRAMP authorized.

SYSTEM MANAGER(S):

Kimberly Patrick, Director, Office of Acquisition Solutions, Environmental Protection Agency, Ronald Reagan Building, 1200 Pennsylvania Avenue NW, Washington, DC 20460, patrick.kimberly@epa.gov, 202-566-2605.

AUTHORITY FOR MAINTENANCE OF THE SYSTEM:

Executive Order 12072 (August 16, 1978); Federal Property and Administrative Services Act of 1949, 40 U.S.C. 121; Office of Federal Procurement Policy Act of 1974, 41 U.S.C. 1702.

PURPOSE(S) OF THE SYSTEM:

EPA uses EAS to initiate, award, modify and track acquisition actions. EAS identifies employees who initiate acquisition actions or are assigned to work on these actions. Specifically, the system tracks the requisitioner, contract official, contract specialist, and approving officials for each acquisition action.

CATEGORIES OF INDIVIDUALS COVERED BY THE SYSTEM:

Categories of individuals covered are EPA employees including the: (a) EPA Project Officer, i.e., the individual who is responsible for the review and evaluation of the application or proposal and the monitoring of a resulting contract acquisition; (b) EPA Program Official, i.e., the individual who is responsible for review and approval of applications or proposals for funding; (c) EPA Budget Official, i.e., the individual who is responsible for certifying availability of funds for approved applications or proposals; (d) EPA Contracting Officer or Contract Specialist, i.e., individuals who are responsible for awarding and administering contracts, and (e) EPA Merit/Peer Reviewers, i.e., individuals who provide a written review or evaluation of the application or proposal to the EPA Project Officer.

CATEGORIES OF RECORDS IN THE SYSTEM:

EAS collects EPA employee first name, last name, work email, work telephone, EPA employee ID and LAN User ID information. The system also collects other information required for the tracking or approval of a contract action including contract proposals, technical reviews by a peer reviewer, records of contract awards, financial data, and other information. EAS also collects Vendor Contact information including: Vendor Code, Legal Name, Data Universal Numbering System (DUNS) ID (a 9 character identifier used for identifying the Vendor), Cage Code (used to provide a standardized method of identifying a given facility at a specific location.), address, phone number, fax number, and email address.

RECORD SOURCE CATEGORIES:

EAS collects EPA employee information from EPA's directory service. Contract proposals and vendor information are collected directly from the user via the Federal Government's System for Award Management (SAM).

ROUTINE USES OF RECORDS MAINTAINED IN THE SYSEM, INCLUDING CATEGORIES OF USERS AND PURPOSES OF SUCH USES:

The routine uses below are both related to and compatible with the original purpose for which the information was collected. The following general routine uses apply to this system (86 FR 62527): A, B, C, D, E, F, G, H, I, J, K, L, and M.

POLICIES AND PRACTICES FOR STORAGE OF RECORDS:

These records are maintained electronically on computer storage devices located at Unison's Amazon Web Services (AWS) Cloud hosting environments (production and disaster recovery) which are Federal Risk and Authorization Management Program (FedRAMP) authorized. Backups will be maintained at production and disaster recovery sites, located at Unison's Amazon Web Services (AWS) Cloud hosting environments (production and disaster recovery). Computer records are maintained in a secure, password protected environment. Access to computer records is limited to those who have a need to know. All EAS user accounts are assigned permissions as needed based on their job functions. Permission level assignments will allow users access only to those functions for which they are authorized. All records are maintained in secure, access-controlled areas or buildings.

POLICIES AND PRACTICES FOR RETRIEVAL OF RECORDS:

Records are retrieved by the first name, last name and/or User ID of EPA employees or Vendor ID (DUNS codes) associated with contracts.

POLICIES AND PRACTICES FOR RETENTION AND DISPOSAL OF RECORDS:

EPA will retain and dispose of EAS records in accordance with the National Archives and Records Administration General Records Schedule and EPA Records Schedule 055—Contracts Management Systems. EAS records are retained for at least 6 years after contract closeout for non-Superfund actions, and 30 years after contract closeout for Superfund site actions.

ADMINISTRATIVE, TECHNICAL, AND PHYSICAL SAFEGUARDS:

Security controls used to protect personally identifiable information in EAS are commensurate with those required for an information system rated moderate for confidentiality, integrity, and availability, as prescribed in NIST Special Publication, 800-53, “Security and Privacy Controls for Information Systems and Organizations,” Revision 5.

1. Administrative Safeguards: EPA personnel are required to complete annual agency Information Security and Privacy training. EPA personnel are instructed to lock their computers when they leave their desks.

2. Technical Safeguards: Electronic records are maintained in a secure, password protected electronic system. EAS access is limited to authorized, authenticated users. All of the system's electronic communication utilizes Transport Layer Security (TLS) secure communication protocol for all transactions.

3. Physical Safeguards: All records are maintained in secure, access-controlled areas or buildings.

RECORD ACCESS PROCEDURES:

All requests for access to personal records should cite the Privacy Act of 1974 and reference the type of request being made (i.e., access). Requests must include: (1) The name and signature of the individual making the request; (2) the name of the Privacy Act system of records to which the request relates; (3) a statement whether a personal inspection of the records or a copy of them by mail is desired; and (4) proof of identity. A full description of EPA's Privacy Act procedures for requesting access to records is available at 40 CFR part 16.

CONTESTING RECORD PROCEDURES:

Requests for correction or amendment must include: (1) The name and signature of the individual making the request; (2) the name of the Privacy Act system of records to which the request relates; (3) a description of the information sought to be corrected or amended and the specific reasons for the correction or amendment; and (4) proof of identity. A full description of EPA's Privacy Act procedures for the correction or amendment of a record are described in EPA's Privacy Act regulations at 40 CFR part 16.

NOTIFICATION PROCEDURES:

Individuals who wish to be informed whether a Privacy Act system of records maintained by EPA contains any record pertaining to them, should make a written request to EPA, Attn: Agency Privacy Officer, MC 2831T, 1200 Pennsylvania Ave. NW, Washington, DC 20460, privacy@epa.gov. A full description of EPA's Privacy Act procedures is included in EPA's Privacy Act regulations at 40 CFR part 16.

EXEMPTIONS PROMULGATED FOR THE SYSTEM:

None.

HISTORY:

86 FR 10949 (February 23, 2021).

Vaughn Noga,
Senior Agency Official for Privacy.

[FR Doc. 2022-03347 Filed 2-15-22; 8:45 am]

BILLING CODE 6560-50-P